OFFICE OF PERSONNEL MANAGEMENT

Excepted Service

AGENCY: U.S. Office of Personnel Management (OPM).

ACTION: Notice.

SUMMARY: This notice identifies Schedule A, B, and C appointing authorities applicable to a single agency that were established or revoked from August 1, 2016 to August 31, 2016.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during August 2016.

Schedule B

No schedule B authorities to report during August 2016.

Schedule C

The following Schedule C appointing authorities were approved during August 2016.

Agency name | Organization name | Position title | Request No. | Effective date
Department of Agriculture | Office of the Under Secretary for Research, Education, and Economics | Senior Advisor | DA160161 | 08/05/2016
| Farm Service Agency | Special Assistant | DA160164 | 08/13/2016
Department of Commerce | Office of Executive Secretariat | Associate Director, Office of the Executive Secretariat | DC160184 | 08/04/2016
| Office of Scheduling and Advance | Senior Advisor | DC160185 | 08/04/2016
|  | Director of Scheduling and Special Advisor | DC160196 | 08/17/2016
| Office of Business Liaison | Deputy Director | DC160186 | 08/04/2016
| Office of the Chief of Staff | Confidential Assistant | DC160190 | 08/04/2016
|  | Special Advisor | DC160191 | 08/05/2016
| Economic Development Administration | Senior Advisor | DC160195 | 08/17/2016
Department of Defense | Office of the Assistant Secretary of Defense (International Security Affairs) | Special Assistant for Middle East Policy | DD160165 | 08/01/2016
| Office of the Under Secretary of Defense (Policy) | Correspondence Assistant, Office of the Under Secretary of Defense for Policy | DD170001 | 08/12/2016
|  | Special Assistant for Middle East Policy | DD160176 | 08/25/2016
| Washington Headquarters Services | Defense Fellow (5) | DD160170 DD160171 DD160179 DD160181 | 08/16/2016 08/16/2016 08/29/2016 08/29/2016
| Office of the Secretary | Special Assistant | DD160185 | 08/29/2016
Department of the Air Force | Office of Assistant Secretary of the Air Force for Manpower and Reserve Affairs | Special Assistant | DF160041 | 08/11/2016
| Office of Assistant Secretary Air Force, Installations, Environment, and Energy | Special Assistant | DF160044 | 08/23/2016
Department of the Navy | Office Assistant Secretary of Navy (Energy, Installations and Environment) | Climate Change and Sustainability Project Manager | DN160051 | 08/12/2016
Department of Education | Office of the Secretary | Special Assistant | DB160125 | 08/31/2016
Department of Energy | Office of Public Affairs | Principal Deputy Press Secretary | DE160146 | 08/05/2016
|  | Press Secretary | DE160145 | 08/15/2016
| Office of the Secretary | Special Assistant (2) | DE160150 | 08/17/2016
|  |  | DE160157 | 08/31/2016
| Office of Assistant Secretary for Congressional and Intergovernmental Affairs | Special Assistant | DE160152 | 08/29/2016
Environmental Protection Agency | Office of Public Affairs | Strategic Communications Advisor | EP160051 | 08/15/2016
|  | Director of Speechwriting | EP160052 | 08/15/2016
| Office of Public Engagement and Environmental Education | Director of Public Engagement | EP160054 | 08/15/2016
General Services Administration | Office of Government Wide Policy | Senior Advisor | GS160029 | 08/17/2016
Department of Health and Human Services | Office of the Assistant Secretary for Public Affairs | Director of Speechwriting | DH160163 | 08/01/2016
| Administration for Children and Families | Senior Policy Advisor | DH160176 | 08/16/2016
| Office of the Secretary | Special Assistant | DH160178 | 08/16/2016
| Office of the Assistant Secretary for Legislation | Special Assistant | DH160179 | 08/25/2016
| Office of Intergovernmental and External Affairs | Special Advisor | DH160182 | 08/30/2016
Department of Homeland Security | Office of the Assistant Secretary for Policy | Special Assistant (2) | DM160294 DM160300 | 08/17/2016 08/17/2016
| Office of the Under Secretary for Science and Technology | Counselor for Export Controls | DM160295 | 08/17/2016
| Office of the Assistant Secretary for Public Affairs | Press Assistant | DM160298 | 08/17/2016
Department of Housing and Urban Development | Office of Public Affairs | Deputy Assistant Secretary for Public Affairs | DU160041 | 08/05/2016
|  | Assistant Press Secretary | DU160046 | 08/25/2016
| Office of the General Counsel | Special Assistant | DU160045 | 08/22/2016
| Office of Public and Indian Housing | Senior Policy Advisor | DU160044 | 08/31/2016
Department of the Interior | Office of the Deputy Secretary | Advisor | DI160083 | 08/19/2016
Department of Labor | Office of the Secretary | Special Assistant | DL160118 | 08/01/2016
|  | Deputy Director, Scheduling and Advance | DL160114 | 08/09/2016
| Wage and Hour Division | Policy Advisor | DL160119 | 08/09/2016
| Office of Congressional and Intergovernmental Affairs | Senior Legislative Assistant | DL160122 | 08/15/2016
| Office of Public Affairs | Director of Speechwriting | DL160124 | 08/22/2016
| Office of the Deputy Secretary | Chief of Staff | DL160125 | 08/22/2016
National Endowment for the Arts | Office of Congressional Affairs | Director of Congressional Affairs | NA160008 | 08/17/2016
National Endowment for the Humanities | Office of the Chairman | White House Liaison and Chairman's Strategic Scheduler | NH170001 | 08/31/2016
Office of Management and Budget | Office of Legislative Affairs | Legislative Analyst | BO160046 | 08/10/2016
| Office of the Director | Confidential Assistant | BO160048 | 08/15/2016
President's Commission on White House Fellowships | Office of the Director | Associate Director | WH160003 | 08/04/2016
Department of State | Office of the United States Global Aids Coordinator | Foreign Affairs Officer | DS160091 | 08/09/2016
Department of Transportation | Office of the Secretary | Deputy White House Liaison | DT170017 | 08/19/2016

The following Schedule C appointing authorities were revoked during August 2016.

Agency name | Organization name | Position title | Request No. | Vacate date
Department of Agriculture | Office of the Communications | Press Assistant | DA140013 | 08/05/2016
|  | Deputy Press Secretary | DA150148 | 08/26/2016
Department of Commerce | Office of the Deputy Secretary | Deputy Chief Data Officer | DC150144 | 08/05/2016
| Office of the Chief of Staff | Director of Scheduling and Advance | DC150033 | 08/06/2016
| Scheduler | DC160029 | 08/20/2016
| Office of Policy and Strategic Planning | Special Assistant | DC160020 | 08/07/2016
| Office of the Director General of the United States and Foreign Commercial Service and Assistant Secretary for Global Markets | Senior Advisor | DC140155 | 08/25/2016
Office of the Secretary of Defense | Office of the Assistant Secretary of Defense (International Security Affairs) | Special Assistant to Deputy Assistant Secretary of Defense Middle East | DD150148 | 08/07/2016
Environmental Protection Agency | Office of Public Engagement and Environmental Education | Deputy Director for Public Engagement and Public Health Based Initiatives | EP150052 | 08/20/2016
| Office of the Administrator | Deputy White House Liaison | EP160001 | 08/20/2016
Federal Trade Commission | Office of the Chairman | Public Affairs Specialist | FT150009 | 08/20/2016
Department of Health and Human Services | Administration for Community Living | Special Assistant | DH140117 | 08/01/2016
| Office of the Assistant Secretary for Public Affairs | Deputy Director of Speechwriting | DH150131 | 08/06/2016
| Office of Intergovernmental and External Affairs | Enrollment Coordinator | DH150160 | 08/12/2016
| Office of the Assistant Secretary for Health | Chief of Staff | DH150074 | 08/20/2016
|  | Senior Policy Advisor | DH150192 | 08/22/2016
Department of Homeland Security | Office of the Assistant Secretary for Intergovernmental Affairs | Intergovernmental Affairs Coordinator | DM150012 | 08/05/2016
| Office of the Assistant Secretary for Policy | Special Assistant | DM160018 | 08/20/2016
| Office of the Chief of Staff | Special Assistant | DM150229 | 08/20/2016
|  | Senior Advance Officer | DM160223 | 08/31/2016
Department of the Interior | Office of the Deputy Secretary | Advisor | DI160014 | 08/20/2016
President's Commission on White House Fellowships | Office of the Director | Special Assistant to the Director | WH150001 | 08/14/2016
United States International Trade Commission | Office of the Vice Chairman | Confidential Assistant | TC160003 | 08/13/2016

Authority: 5 U.S.C. 3301 and 3302; E.O. 10577, 3 CFR, 1954-1958 Comp., p. 218.

U.S. Office of Personnel Management.
Kathleen M. McGettigan,
Acting Director.

[FR Doc. 2017-03868 Filed 2-27-17; 8:45 am]

BILLING CODE 6325-39-P